DEPARTMENT OF JUSTICE

Office of the Attorney General

28 CFR Part 26

[Docket Number OAG 171; AG Order No. 4911-2020 ]

RIN 1105-AB63

Manner of Federal Executions

Correction

In rule document 2020-25867 beginning on page 75846 in the issue of Friday, November 27, 2020, make the following correction:

On page 75846, in the third column, in the last line, “December 24, 2020” should read “December 28, 2020.”

[FR Doc. C1-2020-25867 Filed 11-30-20; 8:45 am]

BILLING CODE 1301-00-D